DEPARTMENT OF HEALTH AND HUMAN SERVICES

Administration for Children and Families

Submission for Office of Management and Budget Review; Chafee Strengthening Outcomes for Transition to Adulthood Project Overarching Generic (New Collection)

AGENCY: Office of Planning, Research, and Evaluation, Administration for Children and Families, United States Department of Health and Human Services.

ACTION: Request for public comments.

SUMMARY: The Administration for Children and Families' (ACF) Office of Planning, Research, and Evaluation (OPRE) requests Office of Management and Budget (OMB) approval for an overarching generic clearance to collect data on programs serving youth transitioning out of foster care as part of the Chafee Strengthening Outcomes for Transition to Adulthood Project. The generic mechanism will allow ACF to conduct rapid-cycle evaluations that would not otherwise be feasible under the timelines associated with the Paperwork Reduction Act of 1995. The purpose of these data collections submitted under the generic will be to inform ACF programming by building the evidence about what works to improve outcomes for the target population and to identify innovative learning methods that address common evaluation challenges.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review-Open for Public Comments” or by using the search function. You can also obtain copies of the proposed collection of information by emailing OPREinfocollection@acf.hhs.gov. Identify all requests by the title of the information collection.

SUPPLEMENTARY INFORMATION:

Description: Under the proposed umbrella generic, OPRE intends to conduct evaluations of the effectiveness of program services and components in improving outcomes for youth and young adults transitioning out of foster care. To address challenges identified in previous studies, the proposed evaluations will use innovative methods tailored to each participating program, including rapid cycle learning techniques that require an iterative approach. Due to the rapid and iterative nature of this work, OPRE is seeking approval for a generic clearance to conduct this research. Intended use of the resulting data is to identify practices and program components that have the potential to improve the delivery and/or quality of services administered by human service programs and agencies in the areas of child welfare and independent living services for youth and young adults with foster care experience. Potential data collection efforts include conducting interviews, focus groups, and surveys with program directors (e.g., from programs serving youth with foster care experience and from their partner agencies) and current, past, or potential participants in programs serving youth with foster care experience (e.g., including potential participants who are included in comparison groups), as well as extracting administrative or other program data.

Under this generic clearance, information is meant to inform ACF activities and may be incorporated into documents or presentations that are made public such as through conference presentations, websites, or social media. The following are some examples of ways in which we may share information resulting from these data collections: technical assistance (TA) plans, webinars, presentations, infographics, issue briefs/reports, project specific reports, or other documents relevant to the field, such as federal leadership and staff, grantees, local implementing agencies, researchers, and/or training/TA providers. We may also request information for the sole purpose of publication in cases where we are working to create a single source for users (clients, programs, researchers) to find information about resources such as services in their area, TA materials, different types of programs or systems available, or research using ACF data. In sharing findings, we will describe the study methods and limitations regarding generalizability and as a basis for policy.

Following standard OMB requirements, OPRE will submit an individual request for each specific data collection activity under this generic clearance. Each request will include the individual instrument(s), a justification specific to the individual information collection, and any supplementary documents.

Respondents: Staff and administrators of programs serving youth and young adults with foster care experience; current, former, or potential participants in programs serving youth; and young adults with foster care experience.

Burden Estimates
Instrument | Number of respondents (total over request period) | Number of responses per respondent (total over request period) | Average burden per response (in hours) | Total burden (in hours)
Administrator Interviews | 40 | 4 | 1.00 | 160
Staff Discussions and Focus Groups | 80 | 4 | 1.50 | 480
Youth Discussions and Focus Groups | 160 | 4 | 1.50 | 960
Youth Surveys | 1,800 | 3 | 0.50 | 2,700
Administrative Data Extraction | 10 | 4 | 4.00 | 160
Document Delivery | 10 | 4 | 1.00 | 40

Estimated Total Burden Hours: 4,500.

Authority: Title IV-E of the Social Security Act, IV-E 477(g)(1-2), as amended by the Foster Care Independence Act of 1999.

Mary B. Jones,
ACF/OPRE Certifying Officer.

[FR Doc. 2023-15677 Filed 7-24-23; 8:45 am]

BILLING CODE 4184-01-P